DEPARTMENT OF TRANSPORTATION

Federal Aviation Administration

Notice of Intent To Rule on Request To Release Airport Property at the Punxsutawney Municipal Airport, Punxsutawney, PA

AGENCY: Federal Aviation Administration (FAA) DOT.

ACTION: Notice of request to release airport property.

SUMMARY: The FAA proposes to rule and invite public comment on the release of land at the Punxsutawney Municipal Airport, Punxsutawney, Pennsylvania under the provisions of Section 47125(a) of Title 49 United States Code (U.S.C.).

DATES: Comments must be received on or before November 20, 2009.

ADDRESSES: Comments on this application may be mailed or delivered to the following address: Ricky Young, Manager, Punxsutawney Municipal Airport Authority, 500 Chestnut Street, Punxsutawney, PA 15767, and at the FAA Harrisburg Airports District Office: Lori K. Pagnanelli, Manager, Harrisburg Airports District Office, 3905 Hartzdale Dr., Suite 508, Camp Hill, PA 17011.

FOR FURTHER INFORMATION CONTACT: Lori B.R. Ledebohm, Planner, Harrisburg Airports District Office location listed above.

The request to release property may be reviewed in person at this same location.

SUPPLEMENTARY INFORMATION: The FAA invites public comment on the request to release property at the Punxsutawney Municipal Airport under the provisions of Section 47125(a) of Title 49 U.S.C.

On July 28, 2009, the FAA and the Pennsylvania Department of Transportation Bureau of Aviation determined that the request to release property at the Punxsutawney Municipal Airport submitted by the Punxsutawney Municipal Airport Authority (Authority) met the procedural requirements.

The following is a brief overview of the request:

The Punxsutawney Municipal Airport Authority requests the release of 30.4248 acres of non-aeronautical airport property to Frank M. Amundson and Mary Ann Amundson. The property was acquired without Federal participation and is currently vacant. The property is located on the Easterly corner of Ridgmont Road and Clawson Street. The purpose of this release is to allow the Punxsutawney Municipal Airport Authority (Authority) to exchange the subject land that does not serve any aeronautical purpose at the airport. In exchange for the subject land, Amundson will transfer the terminal building and hangar to the Authority, which facilities are presently located at the Airport. The exchange will allow the Authority to gain greater control of the facilities located on dedicated airport property. There are no impacts to the Airport and the land is not needed for airport development as shown on the Airport Layout Plan. There are no proceeds expected in connection with the Transfer. Any proceeds from the sale of property are to be used for the capital and operating costs of the airport.

Any person may inspect the request by appointment at the FAA office address listed above. Interested persons are invited to comment on the proposed release from obligations. All comments will be considered by the FAA to the extent practicable.

Issued in Camp Hill, Pennsylvania, October 13, 2009.
Lori K. Pagnanelli,
Manager, Harrisburg Airports District Office.

[FR Doc. E9-25361 Filed 10-20-09; 8:45 am]

BILLING CODE P